DEPARTMENT OF TRANSPORTATION

Federal Highway Administration

Integrated Corridor Management Deployment Planning Grants

AGENCY: Federal Highway Administration (FHWA), DOT.

ACTION: Notice of extension of application period.

SUMMARY: The FHWA is extending the application period for the Integrated Corridor Management Deployment Planning Grants, which was issued through a notice on November 1, 2013, at 78 FR 65751. The original application period is set to close on December 31, 2013. The extension is based on input received from DOT stakeholders that the December 31 closing date does not provide sufficient time for submission of applications. The FHWA agrees that the application period should be extended. Therefore, the closing date for applications is extended to January 17, 2014.

DATES: Formal applications must be submitted no later than January 17, 2014 to be assured consideration. Applications should be submitted through http://www.grants.gov.

FOR FURTHER INFORMATION CONTACT: For questions about the program discussed herein, contact Mr. Robert Sheehan, FHWA Office of Transportation Management, (202) 366-6817, or via email at Robert.Sheehan@dot.gov, or Mr. Brian Cronin, Team Leader, Research, Research and Innovative Technology Administration ITS-Joint Program Office, (202) 366-8841 or via email at Brian.Cronin@dot.gov. For legal questions, please contact Adam Sleeter, Attorney Advisor, FHWA Office of the Chief Counsel, (202) 366-8839, or via email at adam.sleeter@dot.gov. Business hours for the FHWA are from 8:00 a.m., e.t., to 4:30 p.m., e.t., Monday through Friday, except Federal holidays.

SUPPLEMENTARY INFORMATION:

Background

On November 1, 2013, at 78 FR 65751, the FHWA published in the Federal Register a notice regarding the Integrated Corridor Management Deployment Planning Grants. The purpose of this notice was to invite States, Metropolitan Planning Organizations, and local governments that intended to initiate or continue Integrated Corridor Management development with their partners, such as arterial management agencies, tolling authorities, and transit authorities, to apply for deployment planning grants. The Moving Ahead for Progress in the 21st Century Act authorizes the FHWA to encourage Intelligent Transportation Systems deployment on the national highway system through demonstrations and grant programs. The purpose of this program is to promote the integrated management and operations of the transportation system, thereby improving multimodal transportation system management and operations.

The original application period is set to close on December 31, 2013. The extension in this notice is based on input received from DOT stakeholders that the December 31 closing date does not provide sufficient time for submission of applications. The FHWA agrees that the application period should be extended. Therefore, the closing date for applications is extended to January 17, 2014.

Issued on: December 16, 2013.
Victor M. Mendez,
FHWA Administrator.

[FR Doc. 2013-30487 Filed 12-20-13; 8:45 am]

BILLING CODE 4910-22-P